DEPARTMENT OF THE INTERIOR

National Park Service

[NPS-WASO-NAGPRA-NPS0035384; PPWOCRADN0-PCU00RP14.R50000]

Notice of Inventory Completion: University of Oregon, Museum of Natural and Cultural History, Eugene, OR

AGENCY: National Park Service, Interior.

ACTION: Notice.

SUMMARY: In accordance with the Native American Graves Protection and Repatriation Act (NAGPRA), the University of Oregon, Museum of Natural and Cultural History has completed an inventory of human remains and associated funerary objects and has determined that there is a cultural affiliation between the human remains and associated funerary objects and Indian Tribes or Native Hawaiian organizations in this notice. The human remains and associated funerary objects were removed from Curry County, Oregon.

DATES: Repatriation of the human remains and associated funerary objects in this notice may occur on or after March 27, 2023.

ADDRESSES: Dr. Pamela Endzweig, Director of Anthropological Collections, University of Oregon, Museum of Natural and Cultural History, 1224 University of Oregon, Eugene, OR 97403-1224, telephone 541-346-5120, email endzweig@uoregon.edu.

SUPPLEMENTARY INFORMATION: This notice is published as part of the National Park Service's administrative responsibilities under NAGPRA. The determinations in this notice are the sole responsibility of the University of Oregon, Museum of Natural and Cultural History. The National Park Service is not responsible for the determinations in this notice. Additional information on the determinations in this notice, including the results of consultation, can be found in the inventory or related records held by the University of Oregon, Museum of Natural and Cultural History.

Description

In 1936 and 1937, human remains representing, at minimum, 33 individuals, were removed from Nateneten or NaLtene'ten, also known as Lone Ranch Creek Shell Mound (35CU37), an Athabaskan village, burial ground, and midden, in Curry County, OR. It is unknown when the site was first used, but radiocarbon dates of 280±60 RYBP and 1010±80 RYBP are consistent with a late occupation, and excavations from the 1930s report no Euroamerican items from the site. No Euroamerican materials were found with the burials. The human remains were removed by J. Berreman of Stanford University and later transferred to the University of Oregon Museum of Natural and Cultural History. Skeletal analyses indicate that the often fragmentary and partial human remains belong to six juveniles, 19 young adult and adult females, seven young adult and adult males, and one adult of indeterminate sex. No known individuals were identified. The 1,061 associated objects include 20 shell ornaments, 987 olivella shell beads, three stone and clay pipes, 14 bone pendants also known as “head scratchers,” one net sinker, one wedge, one possible gaming piece, 21 clam shells, three fish vertebrae, one pigment specimen, four stone projectile points, and five other bone and shell artifacts.

In 1936 and 1937, human remains representing, at minimum, two individuals, were removed from the Rainbow Rock locality (35CU37a), about a mile south of Nateneten or NaLtene'ten, in Curry County, OR. There is no further provenience information, which is described as “two small shell deposits on the sloping hillside above Rainbow Rock . . . about 100 yards from the beach.” The human remains were removed by J. Berreman of Stanford University and later transferred to the University of Oregon Museum of Natural and Cultural History. Skeletal analyses indicate that the human remains belong to two adult males. No known individuals were identified. No associated funerary objects are present.

In 1952, human remains representing, at minimum, two individuals, were removed by a private party from the surface of the south bank of the Chetco River, in Curry County, OR. There is no further provenience information. Skeletal analyses indicate that the fragmentary human remains represent two adults of indeterminate sex. No known individuals were identified. No associated funerary objects are present.

Historical Documents, ethnographic sources, and oral history indicate that Chetco people have occupied this area of the southern Oregon coast since pre-contact times. Based on archeological context and/or skeletal evidence, the individuals described above were determined to be Native American, of possible Chetco cultural affiliation.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, historical, ethnographic, and oral traditional.

Determinations

Pursuant to NAGPRA and its implementing regulations, and after consultation with the appropriate Indian Tribes and Native Hawaiian organizations, the University of Oregon, Museum of Natural and Cultural History has determined that:

• The human remains described in this notice represent the physical remains of 37 individuals of Native American ancestry.

• The 1,061 objects described in this notice are reasonably believed to have been placed with or near individual human remains at the time of death or later as part of the death rite or ceremony.

• There is a relationship of shared group identity that can be reasonably traced between the human remains and associated funerary objects described in this notice and the Confederated Tribes of Siletz Indians of Oregon; Elk Valley Rancheria, California; and the Tolowa Dee-ni' Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the University of Oregon, Museum of Natural and Cultural History must determine the most appropriate requestor prior to repatriation. Requests for joint repatriation of the human remains and associated funerary objects are considered a single request and not competing requests. The University of Oregon, Museum of Natural and Cultural History is responsible for sending a copy of this notice to the Indian Tribes identified in this notice.

Authority: Native American Graves Protection and Repatriation Act, 25 U.S.C. 3003, and the implementing regulations, 43 CFR 10.9, § 10.10, and § 10.14.

Dated: February 15, 2023.
Melanie O'Brien,
Manager, National NAGPRA Program.

[FR Doc. 2023-03814 Filed 2-23-23; 8:45 am]

BILLING CODE 4312-52-P